DEPARTMENT OF COMMERCE

National Oceanic and Atmospheric Administration

[RTID 0648-XB210]

Endangered Species; File Nos. 24140 and 24368

AGENCY: National Marine Fisheries Service (NMFS), National Oceanic and Atmospheric Administration (NOAA), Commerce.

ACTION: Notice; receipt of application.

SUMMARY: Notice is hereby given that Jane Provancha, Herndon Solutions Group, LLC., 2562 Meadow Lane, Cocoa, FL 32926 and the NMFS Southeast Fisheries Science Center (SEFSC), 75 Virginia Beach Drive, Miami, FL 33149 (Responsible Party: Lisa Desfosse), have applied in due form for permits to take green (Chelonia mydas), hawksbill (Eretmochelys imbricata), Kemp's ridley (Lepidochelys kempii), leatherback (Dermochelys coriacea), loggerhead (Caretta caretta), olive ridley (L. olivacea), and unidentified hardshell sea turtles for purposes of scientific research.

DATES: Written, telefaxed, or email comments must be received on or before August 5, 2021.

ADDRESSES: The application and related documents are available for review by selecting “Records Open for Public Comment” from the “Features” box on the Applications and Permits for Protected Species (APPS) home page, https://apps.nmfs.noaa.gov, and then selecting File No. 24140 or 24368 from the list of available applications. These documents are also available upon written request via email to NMFS.Pr1Comments@noaa.gov.

Written comments on this application should be submitted via email to NMFS.Pr1Comments@noaa.gov. Please include the relevant File No. in the subject line of the email comment.

Those individuals requesting a public hearing should submit a written request via email to NMFS.Pr1Comments@noaa.gov. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

File No. 24140: The applicant proposes to continue long term monitoring of the relative health, abundance, and distribution of green, loggerhead, Kemp's ridley and hawksbill sea turtles inhabiting the northern Indian River Lagoon, including the Mosquito Lagoon, Banana River in Volusia and Brevard Counties, Florida. Annually up to 30 greens, 30 loggerheads, one Kemp's ridley and one hawksbill would be captured by tangle net. Turtles would be measured, weighed, flipper tagged, and passive integrated transponder (PIT) tagged, photographed, and released. Green and loggerhead sea turtles would also be scute, skin, and blood sampled, and gastric lavaged prior to release. Up to 10 green and 10 loggerhead sea turtles may be released with sonic transmitters. The permit would be valid for 10 years.

File No. 24368: The SEFSC proposes to continue studying sea turtles legally bycaught within commercial fisheries and during other human activities operating in the Atlantic Ocean, Gulf of Mexico, Caribbean Sea, and the high seas. The objective is to better understand movement and migration, habitat use, genetics, and population dynamics of the sea turtle species that interact with these human activities. Up to 111 green, 31 hawksbill, 260 Kemp's ridley, 117 leatherback, 490 loggerhead, 20 olive ridley, and 23 unidentified/hybrid live turtles would be photographed, measured, weighed, flipper tagged and PIT tagged, skin biopsied, and released annually. Carcasses, tissues or parts also may be salvaged from dead sea turtles. This work includes the import of biological samples or dead parts collected on the high seas. The permit would be valid for 10 years.

Dated: June 29, 2021.
Julia Marie Harrison,
Chief, Permits and Conservation Division, Office of Protected Resources, National Marine Fisheries Service.

[FR Doc. 2021-14275 Filed 7-2-21; 8:45 am]

BILLING CODE 3510-22-P